DEPARTMENT OF HOMELAND SECURITY

Coast Guard

33 CFR Part 117

[[USCG-2007-0176] Formerly Published as [CGD08-07-042]]

RIN 1625-AA09

Drawbridge Operating Regulation; Gulf Intracoastal Waterway (Algiers Alternate Route), Belle Chasse, LA; Correction

AGENCY: Coast Guard, DHS.

ACTION: Final rule, Correction.

SUMMARY: The Coast Guard published in the Federal Register of December 12, 2007, a final rule concerning changes to the operation for the State Route 23 vertical lift bridge across the Gulf Intracoastal Waterway (Algiers Alternate Route), mile 3.8, at Belle Chasse, Louisiana. The document was inadvertently published under the same docket number as a previously published document. This document establishes the assignment of a new docket number for publication of the final rule.

DATES: This rule is effective on December 12, 2007.

FOR FURTHER INFORMATION CONTACT: Mr. David Frank, Bridge Administration Branch, telephone number 504-671-2128.

SUPPLEMENTARY INFORMATION: The Coast Guard published in the Federal Register of December 12, 2007, a document which changed the operation of the State Route 23 vertical lift bridge across the Gulf Intracoastal Waterway (Algiers Alternate Route), mile 3.8, at Belle Chasse, Louisiana. The document outlined that the portion of the existing regulation allowing the bridge to remain closed to navigation on the last weekend in October was no longer necessary and was being removed from the operating schedule. This document shared a docket number with a separate document that had been published previously. This correction establishes a new docket number for the document published on December 12, 2007.

In rule FR Doc. CGD08-07-042 published on December 12, 2007, (72 FR 298) make the following correction. On page 70515, in the first column, in the heading section replace the docket number CGD08-07-042 with USCG-2007-0176.

Dated: January 8, 2008.
J.H. Korn,
Captain, U.S. Coast Guard, Commander, 8th Coast Guard Dist., Acting.

[FR Doc. E8-1519 Filed 1-28-08; 8:45 am]

BILLING CODE 4910-15-P